NUCLEAR REGULATORY COMMISSION

[Docket Nos. 50-282 and 50-306]

Nuclear Management Company, LLC (NMC); Notice of Withdrawal of Application for Amendment to Facility Operating License

The U.S. Nuclear Regulatory Commission (the Commission) has granted the request of Nuclear Management Company, LLC (NMC) (the licensee) to withdraw its February 28, 2005, application for proposed amendment to Facility Operating License No. DPR-42 and DPR-60 for the Prairie Island Nuclear Generating Plant, Units 1 and 2, located in Goodhue County, Minnesota.

The proposed change would allow the use of the small-break loss-of-coolant accident (SBLOCA) methodology described in Westinghouse WCAP 10054-P-A Addendum 2 Revision 1, “Addendum to the Westinghouse small-break emergency core cooling system Evaluation Model Using the NOTRUMP Code: Safety Injection into the Broken Loop and COSI Condensation Model” dated July 1997. This revised methodology determines the core response following a SBLOCA event and would have been used to assure compliance with the post loss-of-coolant accident acceptance criteria specified in 10 CFR part 50.46.

The Commission had previously issued a Notice of Consideration of Issuance of Amendment published in the Federal Register on April 26, 2005 (79 FR 21459). However, by letter dated February 2, 2006, the licensee withdrew the proposed change.

For further details with respect to this action, see the application for amendment dated February 28, 2005, and the licensee's letter dated February 2, 2006, which withdrew the application for license amendment. Documents may be examined, and/or copied for a fee, at the NRC's Public Document Room (PDR), located at One White Flint North, Public File Area 01 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 16th day of February, 2006.
For the Nuclear Regulatory Commission.
Mahesh Chawla,
Project Manager, Plant Licensing Branch III-1, Division of Operating Reactor Licensing, Office of Nuclear Reactor Regulation.

[FR Doc. E6-2787 Filed 2-27-06; 8:45 am]

BILLING CODE 7590-01-P